DEPARTMENT OF DEFENSE

Office of the Secretary

[Docket ID: DoD-2021-OS-0101]

Manual for Courts-Martial; Proposed Amendments

AGENCY: Joint Service Committee on Military Justice (JSC), Department of Defense (DoD).

ACTION: Notice of availability of proposed amendments and public meeting.

SUMMARY: The Department of Defense requests comments on proposed changes to the Manual for Courts-Martial (MCM), United States (2019 ed.). The proposed changes are based on certain recommendations of the Independent Review Commission on Sexual Assault in the Military and concern: An amendment to provision in the Manual for Courts-Martial governing the employment of expert witnesses; and amending the Manual for Courts-Martial to establish a universal standard of proof to be applied to nonjudicial punishment proceedings. The approval authority for these changes is the President. These proposed changes have not been coordinated within the Department of Defense under the DoD Directive governing the preparation, processing, and coordination of Executive Orders, and do not constitute the official position of the Department of Defense, the Military Departments, or any other Government agency.

DATES: Comments on the proposed changes must be received no later than December 17, 2021. A public meeting to receive comments concerning the proposed changes will be held on November 10, 2021, at 10:00 a.m. in the United States Court of Appeals for the Armed Forces building, 450 E Street NW, Washington, DC 20442-0001.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

JSC Portal: http://jsc.defense.gov/Contact. Follow the instructions for submitting comments.

Instructions: All submissions received must include the agency name and docket number for this Federal Register document. The general policy for comments and other submissions from members of the public is to make these submissions available for public viewing on the internet at http://www.regulations.gov as they are received without change, including any personal identifiers or contact information.

FOR FURTHER INFORMATION CONTACT: Lieutenant Colonel Joshua B. Nettinga, U.S. Air Force, Executive Secretary, JSC, (240) 612-4820, joshua.nettinga@us.af.mil. The JSC website is located at http://jsc.defense.gov.

SUPPLEMENTARY INFORMATION: The full text of the 2019 MCM is available electronically at https://jsc.defense.gov/Military-Law/Current-Publications-and-Updates/.

This notice is provided in accordance with DoD Instruction 5500.17, “Role and Responsibilities of the Joint Service Committee on Military Justice (JSC),” February 21, 2018.

The JSC invites members of the public to comment on the proposed changes; such comments should address specific recommended changes and provide supporting rationale.

This notice also sets forth the date, time, and location for a public meeting of the JSC to discuss the proposed changes, as shown in the DATES section of this notice.

This notice is intended only to improve the internal management of the Federal Government. It is not intended to create any right or benefit, substantive or procedural, enforceable at law by any party against the United States, its agencies, its officers, or any person.

Dated: October 13, 2021.
Aaron T. Siegel,
Alternate OSD Federal Register Liaison Officer, Department of Defense.

BILLING CODE 5001-06-P

[FR Doc. 2021-22650 Filed 10-15-21; 8:45 am]

BILLING CODE 5001-06-C